DEPARTMENT OF THE INTERIOR

National Park Service

[NPS-WASO-NAGPRA-13042; PPWOCRADN0-PCU00RP14.R50000]

Notice of Intent To Repatriate Cultural Items: University of Michigan, Museum of Anthropology, Ann Arbor, MI

AGENCY: National Park Service, Interior.

ACTION: Notice.

SUMMARY: The University of Michigan, in consultation with the appropriate Indian tribes or Native Hawaiian organizations, has determined that the cultural items listed in this notice meet the definition of unassociated funerary objects. Lineal descendants or representatives of any Indian tribe or Native Hawaiian organization not identified in this notice that wish to claim these cultural items should submit a written request to the University of Michigan. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the University of Michigan at the address in this notice by July 8, 2013.

ADDRESSES: Dr. Ben Secunda, NAGPRA Project Manager, Office of the Vice President for Research, 4080 Fleming Building, University of Michigan, 503 S. Thompson St., Ann Arbor, MI 48109-1340, telephone (734) 647-9085, email bsecunda@umich.edu.

SUPPLEMENTARY INFORMATION: Notice is here given in accordance with the Native American Graves Protection and Repatriation Act (NAGPRA), 25 U.S.C. 3005, of the intent to repatriate cultural items under the control of the University of Michigan that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

Prior to 1924, 15 cultural items were removed from graves in the areas of Middle Village, Cross Village, and other locations in Emmet County, MI. In 1924, these items were sold to the University of Michigan, Museum of Anthropology, by Rev. L.P. Rowlands of Detroit, MI. Other unassociated funerary objects from this collection were previously listed in a Notice of Inventory Completion published in the Federal Register (62 FR 8265-8266, February 24, 1997). The 15 unassociated funerary objects are as follows: From Middle Village—6 pipestone square beads; from Cross Village—1 silver brooch; 1 iron axe; and 1 small oval wooden bowl; and from locations in Emmet County—2 silver fragments; 1 British military coat button; 1 small bundle of feathers, plant fibers, and metal pieces; 1 lot of red paint fragments in hide; and 1 textile fragment with small shell beads.

The areas of Cross Village and Middle Village are historic Odawa settlements, and the types of unassociated funerary objects are consistent with Odawa burials of the late seventeenth and eighteenth centuries. Consultation evidence presented by the Little Traverse Bay Bands of Odawa Indians, Michigan, supports the Odawa affiliation for these sites.

Determinations Made by the University of Michigan

• Pursuant to 25 U.S.C. 3001(3)(B), the 15 cultural items described above are reasonably believed to have been placed with or near individual human remains at the time of death or later as part of the death rite or ceremony and are believed, by a preponderance of the evidence, to have been removed from specific burial sites of Native American individuals.

• Pursuant to 25 U.S.C. 3001(2), there is a relationship of shared group identity that can be reasonably traced between the unassociated funerary objects and the Little Traverse Bay Bands of Odawa Indians, Michigan.

Additional Requestors and Disposition

Lineal descendants or representatives of any Indian tribe or Native Hawaiian organization not identified in this notice that wish to claim these cultural items should submit a written request with information in support of the claim to Dr. Ben Secunda, NAGPRA Project Manager, Office of the Vice President for Research, 4080 Fleming Building, University of Michigan, 503 S. Thompson St., Ann Arbor, MI 48109-1340, telephone (734) 647-9085, email bsecunda@umich.edu by July 8, 2013. After that date, if no additional claimants have come forward, transfer of control of the unassociated funerary objects to the Little Traverse Bay Bands of Odawa Indians, Michigan, may proceed.

The University of Michigan is responsible for notifying the Little Traverse Bay Bands of Odawa Indians, Michigan, that this notice has been published.

Dated: May 8, 2013.
Sherry Hutt,
Manager, National NAGPRA Program.

[FR Doc. 2013-13465 Filed 6-5-13; 8:45 am]

BILLING CODE 4312-50-P